DEPARTMENT OF ENERGY

Federal Energy Regulatory Commission

[Project No. 2299-074]

Turlock Irrigation District and Modesto Irrigation District; Notice of Application for Amendment of License and Soliciting Comments, Motions To Intervene, and Protests

July 19, 2010.

Take notice that the following application has been filed with the Commission and is available for public inspection:

a. Application Type: Amendment of License.

b. Project No.: 2299-074.

c. Date Filed: May 24, 2010.

d. Applicant: Turlock Irrigation District and Modesto Irrigation District.

e. Name of Project: Don Pedro Hydroelectric Project.

f. Location: On the Tuolumne River, Tuolumne County, California.

g. Filed Pursuant to: Federal Power Act, 16 USC 791a-825r.

h. Applicant Contact: Turlock Irrigation District, Robert M. Nees, Director of Water Resources and Regulatory Affairs, P.O. Box 949, Turlock, CA 95381, telephone: (209) 883-8300; and Modesto Irrigation District, Greg Salyer, Resource Planning and Development Manager, P.O. Box 4060, Modesto, CA 95352, telephone: (209) 526-7373.

i. FERC Contact: Mrs. Anumzziatta Purchiaroni, telephone (202) 502-6191, and e-mail address: anumzziatta.purchiaroni@ferc.gov.

j. Deadline for filing comments, motions to intervene, and protest: August 20, 2010.

All documents (original and eight copies) should be filed with: Secretary, Federal Energy Regulatory Commission, 888 First Street, NE., Washington, DC 20426.

The Commission's Rules of Practice and Procedure require all interveners filing documents with the Commission to serve a copy of that document on each person whose name appears on the official service list for the project. Further, if an intervener files comments or documents with the Commission relating to the merits of an issue that may affect the responsibilities of a particular resource agency, they must also serve a copy of the document on that resource agency. A copy of any motion to intervene must also be served upon each representative of the Applicant specified in the particular application.

k. Description of Request: The licensees are proposing to delete from the license the following transmission lines: 28.5-mile long, 69-kV Don Pedro-Tuolumne Lines 1 and 2 extending from the Don Pedro switchyard to the Turlock Irrigation District's Tuolumne Substation; (2) 23-mile-long, 69-kV Don Pedro-Hawkins Line extending from the Don Pedro switchyard to the Turlock Irrigation District's Hawkins Substation; and (3) 22.4-mile-long, 69-kV Don Pedro-Reinway North and South lines extending from the Don Pedro Switchyard to the Modesto Irrigation District's Reinway Substation. The licensees state that the lines have become part of the interconnected transmission system in California, and thus are no longer “primary lines.”

l. Locations of the Application: A copy of the application is available for inspection and reproduction at the Commission's Public Reference Room, located at 888 First Street, NE., Room 2A, Washington, DC 20426, or by calling (202) 502-8371. Information about this filing may also be viewed on the Commission's Web site at http://www.ferc.gov using the “eLibrary” link. Enter the docket number excluding the last three digits in the docket number field to access the document. You may also register Online at http://www.ferc.gov/docs-filing/esubscription.asp to be notified via e-mail of new filings and issuances related to this or other pending projects. For assistance, call 1-866-208-3676 or e-mail FERCOnlineSupport@ferc.gov, for TTY, call (202) 502-8659. A copy is also available for inspection and reproduction at the address in item (h) above.

m. Individuals desiring to be included on the Commission's mailing list should so indicate by writing to the Secretary of the Commission.

n. Comments, Protests, or Motions to Intervene—Anyone may submit comments, a protest, or a motion to intervene in accordance with the requirements of Rules of Practice and Procedure, 18 CFR 385.210, 385.211, 385.214. In determining the appropriate action to take, the Commission will consider all protests or other comments filed, but only those who file a motion to intervene in accordance with the Commission's Rules may become a party to the proceeding. Any comments, protests, or motions to intervene must be received on or before the specified comment date for the particular application.

o. Any filings must bear in all capital letters the title “COMMENTS,” “PROTEST,” or “MOTION TO INTERVENE,” as applicable, and the Project Number of the particular application to which the filing refers.

p. Agency Comments: Federal, state, and local agencies are invited to file comments on the described application. A copy of the application may be obtained by agencies directly from the Applicant. If an agency does not file comments within the time specified for filing comments, it will be presumed to have no comments. One copy of an agency's comments must also be sent to the Applicant's representatives.

q. Comments, protests and interventions may be filed electronically via the Internet in lieu of paper. See, 18 CFR 385.2001(a)(1)(iii) and the instructions on the Commission's Web site at http://www.ferc.gov under the “e-Filing” link.

Kimberly D. Bose,
Secretary.

[FR Doc. 2010-18280 Filed 7-26-10; 8:45 am]

BILLING CODE 6717-01-P